FEDERAL COMMUNICATIONS COMMISSION

47 CFR Part 73

[DA 18-543; MB Docket No. 18-27; RM-11796]

Radio Broadcasting Services; Desert Hills, Arizona

AGENCY: Federal Communications Commission.

ACTION: Final rule.

SUMMARY: At the request of L. Topaz Enterprises, Inc., the Audio Division amends the FM Table of Allotments by adding Channel 292A at Desert Hills, Arizona. We find that the public interest would be served by allotting a second local service at Desert Hills, Arizona. A staff engineering analysis indicates that Channel 292A can be added at Desert Hills, Arizona, as proposed, consistent with the minimum distance separation requirements of the Commission's rules without a site restriction. The reference coordinates are 34-32-58 NL and 114-22-2 WL.

DATES: Effective July 9, 2018.

FOR FURTHER INFORMATION CONTACT: Adrienne Y. Denysyk, Media Bureau, (202) 418-2700.

SUPPLEMENTARY INFORMATION: This is a synopsis of the Commission's Report and Order, MB Docket No. 18-27, adopted May 25, 2018, and released May 25, 2018. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 309, 310, 334, 336, and 339.

2. Section 73.202(b), the table is amended under Arizona, by adding Desert Hills, Channel 292A, in alphabetical order to read as follows:

§ 73.202 Table of Allotments.

* * * * *

(b) * * *

| Channel No.
* * * * *
Arizona
* * * * *
Desert Hills | 292A
* * * * *

* * * * *

[FR Doc. 2018-13794 Filed 6-27-18; 8:45 am]

BILLING CODE 6712-01-P